NUCLEAR REGULATORY COMMISSION

[Docket Nos. 50-387 and 50-388; NRC-2009-0389]

PPL Susquehanna, LLC; Notice of Withdrawal of Application for Amendment to Facility Operating License

The U.S. Nuclear Regulatory Commission (the Commission) has granted the request of PPL Susquehanna, LLC, (the licensee) to withdraw its March 24, 2009, as supplemented by letters dated April 30 and May 12, 2009, application for proposed amendment to Facility Operating License Nos. NPF-14 and NPF-22 for the Susquehanna Steam Electric Station (SSES), Units 1 and 2, located in Luzerne County, Pennsylvania.

The proposed amendments would have changed the SSES Units 1 and 2 Technical Specifications (TSs) 3.8.1 for AC Sources—Operating, to extend the allowable Completion Time for the Required Actions associated with one offsite circuit inoperable due to the replacement of Startup Transformer Number 20 (ST No. 20). The proposed change to SSES Units 1 and 2 TS would have allowed for a one-time only extension of limiting condition for operation 3.8.1 Action A.3 to 10 days during replacement of ST No. 20, while both units remain at power.

The Commission had previously issued a Notice of Consideration of Issuance of Amendment published in the Federal Register on June 2, 2009 (74 FR 26434). However, by letter dated August 20, 2009, the licensee withdrew the proposed change.

For further details with respect to this action, see the application for amendment dated March 24, 2009, as supplemented by letters dated April 30 and May 12, 2009, and the licensee's letter dated August 20, 2009, which withdrew the application for license amendment.

Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 31st day of August 2009.
For the Nuclear Regulatory Commission.
Bhalchandra K. Vaidya,
Project Manager, Plant Licensing Branch I-1, Division of Operating Reactor Licensing, Office of Nuclear Reactor Regulation.

[FR Doc. E9-21441 Filed 9-3-09; 8:45 am]

BILLING CODE 7590-01-P